DEPARTMENT OF HEALTH AND HUMAN SERVICES

Centers for Disease Control and Prevention

[30 Day-15-15AFJ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

The Green Housing Pilot Study (New Orleans)—New—National Center for Environmental Health (NCEH), Centers for Disease Control and Prevention (CDC).

Background and Brief Description

The Centers for Disease Control and Prevention (CDC) seeks a new three-year OMB approval for the Green Housing Pilot Study (New Orleans) or “Pilot” of additional components to be tested at the New Orleans site for the main Green Housing Study (OMB No. 0920-0906, Expiration 10/31/2017). The goal of the Pilot is to apply novel approaches to study exposures to various indoor pollutants in children ranging in age from newborn-12 years. The information collected will help scientists better understand time-activity patterns of children that affect exposures to chemical and biological agents in their residential environments, and improve estimates of exposure for children.

Results from this Pilot will inform future Green Housing Study sites and will potentially reduce participant time burden by collecting some questionnaires electronically. This study directly supports the Healthy People 2020 Healthy Homes' health protection goal of the CDC. This investigation is consistent with CDC's Health Protection Research Agenda, which calls for research to identify the major environmental causes of disease and disability and related risk factors.

In 2011, CDC funded the first two study sites for the Green Housing Study, Boston and Cincinnati. In these two cities, renovations sponsored by the Department of Housing and Urban Development (HUD) had already been scheduled. By selecting sites in which renovations were already scheduled to occur, CDC has leveraged the opportunity to collect survey and biomarker data from residents, and to collect environmental measurements in homes to evaluate associations between green housing and health.

Several objectives will be evaluated during the Pilot:

(1) Identify and characterize factors affecting children's exposures to chemical ingredients from consumer products found in their everyday environment to support the data and modeling needs of the exposure components of EPA's national research programs;

(2) Evaluate the Pilot data metrics for incorporation in and enhancement of CDC's ability to understand the relationship between environmental exposures and asthma;

(3) Compare multimedia measurements and survey data between pre- and post-renovation time points in green and non-green low-income housing to assess exposure related changes in the residence and participants due to renovation activities.

Like the other Green Housing Study sites, data will be collected from 64 households. Study participants are children with asthma and their mothers/primary caregivers living in HUD-subsidized housing that has either received a green renovation or is a non-green home. This Pilot will also enroll younger children with a focus on newborns-3 years. Having a larger age range of children in the study will improve the estimates of how environmental exposures inside and outside of their homes can occur during different life stages of childhood, a critical period of life when the immune system and other organ systems are still developing.

The Pilot will be implemented by incorporating it into the Green Housing study schedule. Data collection methods include: (1) Time-activity pattern questionnaire of children, administered to mothers/primary caregivers; (2) collection of air, soil, dust samples from the respondent's home; and (3) collection of blood, urine, toenails clippings, and feces from the respondent's eligible children.

We hypothesize that a better estimation of exposure pathways will improve exposure modeling for the current and the future Green Housing Study sites, and influence future research in environmental health. Although children are considered participants, the respondents to all questionnaires are the mothers/primary caregivers; no children will fill out questionnaires.

The respondents are 64 mothers/primary caregivers of enrolled children; or approximately 21 respondents each year. There is no cost to the respondents other than their time to participate in the study.

The total estimated annual burden hours for the Pilot is 56 hours.

Estimated Annualized Burden Hours
Type of respondents | Form name | Number of respondents | Number of responses per respondent | Average burden per response (in hrs.)
Mothers/Primary Caregivers of Enrolled Children | Time/Activity Questionnaire | 21 | 4 | 40/60

Leroy A. Richardson,
Chief, Information Collection Review Office, Office of Scientific Integrity, Office of the Associate Director for Science, Office of the Director, Centers for Disease Control and Prevention.

[FR Doc. 2015-20191 Filed 8-14-15; 8:45 am]

BILLING CODE 4163-18-P